DEPARTMENT OF AGRICULTURE

Farm Service Agency

Information Collection; Horse Breeder Loan Program

AGENCY: Farm Service Agency, USDA.

ACTION: Notice; request for comment.

SUMMARY: In accordance with the Paperwork Reduction Act of 1995, the Farm Service Agency is seeking comments from all interested individuals and organizations on the extension of currently approved information collection that supports the Horse Breeder Loan program. This program is to provide loans to the horse breeders who have suffered economic losses resulting from Mare Reproductive Loss Syndrome (MLRS).

DATES: Comments must be received in writing on or before January 24, 2003, to be assured of consideration. Comments received after that date will be considered to the extent practicable.

ADDRESSES: Comments concerning this notice should be addressed to Farm Service Agency, USDA, Attn: Cathy Quayle, Senior Loan Officer, Loan Making Division, Mail Stop 0522, 1400 Independence Avenue, SW., Washington, DC 20250-0522.

Comments also may be submitted via facsimile to (202) 720-6797 or by e-mail to: cathy_quayle@wdc.usda.gov.

The public may inspect comments received at 1280 Maryland Avenue, SW., Washington, DC 20024 in Suite 240 during normal business hours. Visitors are encouraged to call ahead to (202) 690-4018 to facilitate entry to the building.

FOR FURTHER INFORMATION CONTACT: Cathy Qualye, Loan Making Division, (202) 690-4018 and cathy_quayle@wdc.usda.gov. Individuals who use telecommunication devices for the deaf (TDD) may call the Federal Information Relay Service (FIRS) at 1-800-877-8339 between 8 a.m. and 8 p.m., eastern standard time, Monday through Friday.

SUPPLEMENTARY INFORMATION:

Description of Information Collection

Title: Horse Breeder Loan Program.

OMB Number: 0560-0221.

Expiration Date of Approval: December 31, 2002.

Type of Request: Extension with no revision.

Abstract: This information collection is necessary to support the FSA Horse Breeder Loan program, which is authorized under the Agriculture, Rural Development, Food and Drug Administration and Related Appropriation Act, 2002. The respondents are the horse breeders who suffered losses resulting from MLRS. Horse breeders must submit the forms and other information to FSA loan officials to verify the evidence of losses before making eligibility and financial determinations on their loan request. If the information is not collected from each horse breeder, FSA loan official will not able to make eligibility and feasibility decisions.

Estimate of Annual Burden: 1.572 hours per responses.

Estimated Annual Number of Respondents: 800.

Estimated Annual Number of Responses per Respondent: 2.50.

Estimated Total Annual Burden on Respondents: 1258 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Dated: November 13, 2002.
Teresa C. Lasseter,
Acting Administrator, Farm Service Agency.

[FR Doc. 02-29820 Filed 11-22-02; 8:45 am]

BILLING CODE 3410-05-P